DEPARTMENT OF THE INTERIOR

Bureau of Land Management

[LLNML00000 L12200000.DF0000 16XL1109AF]

Notice of Public Meeting, Las Cruces District Resource Advisory Council Meeting, New Mexico

AGENCY: Bureau of Land Management, Interior.

ACTION: Notice of public meeting.

SUMMARY: In accordance with the Federal Land Policy and Management Act and the Federal Advisory Committee Act, the Bureau of Land Management's (BLM) Las Cruces District Resource Advisory Council (RAC) will meet as indicated below.

DATES: The RAC will meet on January 28, 2016.

ADDRESSES: The meeting will be conducted at the BLM Las Cruces District Office, 1800 Marquess Street, Las Cruces, New Mexico from 9:00 a.m.-12 p.m. Following the meeting, the BLM and RAC will tour the Peña Blanca Wilderness Study Area (WSA) located in the Organ Mountains-Desert Peaks National Monument. The field tour will depart from the BLM office at 1:30 p.m. and conclude at 5:00 p.m. Both the meeting and field tour is open to the public.

FOR FURTHER INFORMATION CONTACT: Deborah Stevens, BLM Las Cruces District, 1800 Marquess Street, Las Cruces, NM 88001, 575-525-4421. Persons who use a telecommunications device for the deaf (TDD) may call the Federal Information Relay Service (FIRS) at 1-800-877-8229, to contact the above individual during normal business hours. The FIRS is available 24 hours a day, 7 days a week, to leave a message or question with the above individual. You will receive a reply during normal business hours.

SUPPLEMENTARY INFORMATION: The 10-member Las Cruces District RAC advises the Secretary of the Interior, through the BLM, on a variety of planning and management issues associated with public land management in New Mexico.

Planned agenda items include updates on the proposed Organ Mountains-Desert Peaks Resource Management Plan and Environmental Impact Statement (EIS); the Afton Solar Energy Zone (SEZ) and Regional Mitigation Plan; and other major projects in the Las Cruces District.

A half-hour public comment period, during which the public may address the Council, will begin at 11:30 a.m. Depending on the number of individuals wishing to comment and time available, the time for individual oral comments may be limited. In addition, the public may send written comments to the RAC at the BLM Las Cruces District Office, 1800 Marquess Street, Las Cruces, NM 88001.

Melanie Barnes,
Acting Deputy State Director, Lands and Resources.

[FR Doc. 2016-00177 Filed 1-7-16; 8:45 am]

BILLING CODE 4310-FB-P